DEPARTMENT OF JUSTICE

Antitrust Division

Notice Pursuant to the National Cooperative Research and Production Act of 1993—Microcontaminant Reduction Venture

Notice is hereby given that, on June 13, 2001, pursuant to section 6(a) of the National Cooperative Research and Production Act of 1993, 15 U.S.C. 4301 et seq. (“Act”), the Microcontaminant Reduction Venture (“the Venture”) has filed written notifications simultaneously with the Attorney General and the Federal Trade Commission disclosing (1) the identities of the parties and (2) the nature an objectives of the venture. The notifications were filed for the purpose of invoking the Act's provisions limiting the recovery of antitrust plaintiffs to actual damages under specified circumstances.

Pursuant to section 6(b) of the Act, the identities of the parties are Vulcan Materials Company, Birmingham, AL; and KMG Bernuth, Inc., Houston, TX.

The nature and objectives of the venture are to develop cost effective methods for reduction of microcontaminants such as dioxins, furans, and hexachlorobenzene in the pentachlorophenol manufactured by the participants.

Constance K. Robinson,
Director of Operations, Antitrust Division.

[FR Doc. 01-18086 Filed 7-18-01; 8:45 am]

BILLING CODE 4410-11-M